NATIONAL FOUNDATION ON THE ARTS AND THE HUMANITIES

Meetings of Humanities Panel

AGENCY: National Endowment for the Humanities, National Foundation on the Arts and the Humanities.

ACTION: Notice of meetings.

SUMMARY: The National Endowment for the Humanities will hold seventeen meetings of the Humanities Panel, a federal advisory committee, during March, 2018. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: March 1, 2018. This meeting will discuss applications on the subjects of Archaeology and the Ancient World for the Collaborative Research grant program, submitted to the Division of Research Programs.

2. Date: March 12, 2018. This meeting will discuss applications on the subject of Social Sciences for the Collaborative Research grant program, submitted to the Division of Research Programs.

3. Date: March 13, 2018. This meeting will discuss applications on the subjects of Philosophy and Religion for the Scholarly Editions and Translations grant program, submitted to the Division of Research Programs.

4. Date: March 14, 2018. This meeting will discuss applications on the subject of the Arts for the Collaborative Research grant program, submitted to the Division of Research Programs.

5. Date: March 15, 2018. This meeting will discuss applications on the subject of American History for the Scholarly Editions and Translations grant program, submitted to the Division of Research Programs.

6. Date: March 15, 2018. This meeting will discuss applications on the subject of Museums for the Sustaining Cultural Heritage Collections grant program, submitted to the Division of Preservation and Access.

7. Date: March 16, 2018. This meeting will discuss applications on the subjects of Historical Societies and Local History for the Sustaining Cultural Heritage Collections grant program, submitted to the Division of Preservation and Access.

8. Date: March 19, 2018. This meeting will discuss applications on the subject of World Literature for the Scholarly Editions and Translations grant program, submitted to the Division of Research Programs.

9. Date: March 19, 2018. This meeting will discuss applications on the subject of Art History for the Public Humanities Projects—Exhibitions grant program (implementation grants), submitted to the Division of Public Programs.

10. Date: March 20, 2018. This meeting will discuss applications on the subjects of History and Literature for the Collaborative Research grant program, submitted to the Division of Research Programs.

11. Date: March 20, 2018. This meeting will discuss applications on the subject of History for Media Projects: Production Grants, submitted to the Division of Public Programs.

12. Date: March 21, 2018. This meeting will discuss applications on the subjects of World History and Literature for the Scholarly Editions and Translations grant program, submitted to the Division of Research Programs.

13. Date: March 22, 2018. This meeting will discuss applications on the subjects of U.S. History and Culture for the Public Humanities Projects—Exhibitions grant program (implementation grants), submitted to the Division of Public Programs.

14. Date: March 22, 2018. This meeting will discuss applications on the subjects of Libraries and Archives for the Sustaining Cultural Heritage Collections grant program, submitted to the Division of Preservation and Access.

15. Date: March 23, 2018. This meeting will discuss applications on the subjects of New World and Asian Archaeology for the Collaborative Research grant program, submitted to the Division of Research Programs.

16. Date: March 23, 2018. This meeting will discuss applications on the subjects of Historic Houses and Small Museums for the Sustaining Cultural Heritage Collections grant program, submitted to the Division of Preservation and Access.

17. Date: March 26, 2018. This meeting will discuss applications on the subjects of American and British Literature for the Scholarly Editions and Translations grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: February 7, 2018.
Elizabeth Voyatzis,
Committee Management Officer.

[FR Doc. 2018-02855 Filed 2-12-18; 8:45 am]

BILLING CODE 7536-01-P